DEPARTMENT OF TRANSPORTATION

Federal Aviation Administration

14 CFR Part 73

[Docket No. FAA-2004-19051; Airspace Docket No. 04-AWP-6]

RIN 2120-AA66

Establishment of Restricted Area 2507E; Chocolate Mountains, CA

ACTION: Notice of proposed rulemaking (NPRM).

SUMMARY: This action proposes to establish Restricted Area 2507E (R-2507E), Chocolate Mountains, CA, as part of a U.S Marine Corps (USMC) training initiative. The USMC has requested the establishment of this airspace to support its Close Air Support Mission (CAS) within the Chocolate Mountains Range. The expanded restricted airspace is needed to conduct realistic aircrew training and to maintain the level of proficiency in modern tactics that is required for combat readiness.

DATES: Comments must be received on or before November 15, 2004.

ADDRESSES: Send comments on this proposal to the Docket Management System, Department of Transportation, Room Plaza 401, 400 Seventh Street, SW., Washington, DC 20590-0001. You must identify FAA Docket No. FAA-2004-19051 and Airspace Docket No. 04-AWP-6, at the beginning of your comments. You may also submit comments on the Internet at http://dms.dot.gov.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-19051 and Airspace Docket No. 04-AWP-06) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2004-19051 and Airspace Docket No. 04-AWP-6.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 15000 Aviation Boulevard, Lawndale, CA 90261.

Persons interested in being placed on a mailing list for future NPRM's should contact the FAA's Office of Rulemaking, (202) 267-9677, for a copy of Advisory Circular No. 11-2A, Notice of Proposed Rulemaking Distribution System, which describes the application procedure.

History

The airspace in the Chocolate Mountains Range currently consists of several restricted areas and a military operations area (MOA). A MOA is a type of nonregulatory special use airspace designated by the FAA to contain certain nonhazardous military flying activities. The Chocolate Mountains Range is used to train aircrews in the delivery of ordnance to support front line ground forces. The current restricted airspace in the Chocolate Mountains Range is too small to allow aircrew training in weapons delivery tactics that are used in a CAS environment. The expanded restricted airspace is needed to conduct realistic aircrew training and to maintain the level of proficiency in modern tactics that is required for combat readiness.

The Proposal

The FAA is proposing an amendment to Title 14 Code of Federal Regulations (14 CFR) part 73 (part 73) to establish R-2507E, Chocolate Mountains, CA, as part of a USMC training initiative. The USMC has requested the establishment of this airspace to support its CAS within the Chocolate Mountains Range. The proposed R-2507E will be contiguous with the existing R-2507S, extending from the surface to flight level (FL) 400 and will encompass a portion of the Abel North MOA. The proposed time of designation will be from 0700 to 2300 hours daily. Since the Chocolate Mountains Range complex is joint-use airspace, the restricted areas would only be scheduled when needed for training, and would be available for transit by non-participating aircraft when not in use.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subject to the appropriate environmental analysis in accordance with FAA Order 1050.1E, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2507E Chocolate Mountains, CA [New]

Boundaries. Beginning at lat. 33°17′06″ N., long. 115°04′ 35″ W., to lat. 33°14′26″ N., long. 114°59′ 00″ W., to lat. 33°14′26″ N., long. 114°56′ 35″ W., to lat. 33°10′21″ N., long. 114°56′ 26″ W., to lat. 33°08′45″ N., long. 114°56′ 43″ W.

Designated altitudes. Surface to FL 400.

Time of designation. 0700-2300 local daily other times by NOTAM.

Controlling agency. FAA, Los Angeles ARTCC.

Using agency. Commanding Officer, USMC Air Station, Yuma, AZ.

* * * * *

Issued in Washington, DC, on September 24, 2004.
Reginald C. Matthews,
Manager, Airspace and Rules.

[FR Doc. 04-22020 Filed 9-30-04; 8:45 am]

BILLING CODE 4910-13-P